DEPARTMENT OF STATE

[Public Notice: 10910]

Advisory Committee on International Economic Policy; Notice of Open Meeting

The Advisory Committee on International Economic Policy (ACIEP) will meet from 1:00 p.m. until 4:00 p.m. on Thursday, October 23, in New York, New York, at the United States Mission to the United Nations, 799 United Nations Plaza. Assistant Secretary of State for Economic and Business Affairs Manisha Singh and Committee Chair Paul R. Charron will host the meeting. The ACIEP serves the U.S. government in a solely advisory capacity and provides advice concerning topics in international economic policy. The discussion at the meeting will include such topics as U.S. companies competing overseas and the purpose of a corporation. The Sanctions Subcommittee may present updates.

This meeting is open to the public, though seating is limited. Entry to the building is controlled. To obtain pre-clearance for entry, members of the public planning to attend must, no later than October 16, 2019, provide their full name and professional affiliation (if any) to Briana Wagner by email: WagnerBF@state.gov. Requests for reasonable accommodation should also be made to Briana Wagner by October 16, 2019. Requests made after that date will be considered but may not be possible to fulfill.

This information is being collected pursuant to 22 U.S.C. 2651a and 22 U.S.C. 4802 for the purpose of screening and pre-clearing participants to enter the host venue at the U.S. Department of State, in line with standard security procedures for events of this size. The Department of State will use this information consistent with the routine uses set forth in the System of Records Notices for Protocol Records (State-33) and Security Records (State-36). See https://www.state.gov/privacy/sorns/index.htm. Provision of this information is voluntary, but failure to provide accurate information may impede your ability to register for the event.

For additional information, contact Briana Wagner, Bureau of Economic and Business Affairs, at (202) 647-4732, or WagnerBF@state.gov.

Briana Wagner,
Designated Federal Officer, Department of State.

[FR Doc. 2019-21333 Filed 10-1-19; 8:45 am]

BILLING CODE 4710-AE-P